DEPARTMENT OF THE INTERIOR

National Park Service

[NPS-WASO-NAGPRA-NPS0025287, PPWOCRADN0-PCU00RP14.R50000]

Notice of Inventory Completion: Wisconsin Historical Society, Madison, WI

AGENCY: National Park Service, Interior.

ACTION: Notice.

SUMMARY: The Wisconsin Historical Society has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Wisconsin Historical Society. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Wisconsin Historical Society at the address in this notice by May 21, 2018.

ADDRESSES: Jennifer Kolb, Wisconsin Historical Society, 816 State Street, Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI. The human remains and associated funerary objects were removed from the Mosquito Island Sandbar Discovery, Buffalo County, and the Schwert Mound Group, Trempealeau County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and Upper Sioux Community, Minnesota.

History and Description of the Remains

In 1966, human remains representing, at minimum, 56 individuals were removed from Schwert Mound Group (47-TR-0031) in Trempealeau County, WI. The Wisconsin Historical Society (WHS), in a joint project with the University of Wisconsin-Madison's Department of Anthropology and Center for Climatic Research, excavated two mounds (Mounds 4 and 26) at the site in 1966. All of the human remains in Mound 4 were found in a single sub-floor burial pit with 24 distinct burial areas within the pit (Burials 1-15, 17-25). Internment patterns included fully extended individuals and bundle burials. Skeletal analysis determined that these remains represent four adult males, five adult females, thirteen adults of indeterminate sex, six juveniles, and five individuals of indeterminate age and sex. Five out of the six subadults were interred with an adult. Remains were found in two separate locations within Mound 26. The earliest burials were interred in a single sub-floor burial pit below the mound, and a second internment phase consisted of two distinct intrusive burial areas. Eight separate bundle burials (Burials A-H) were excavated and scattered individual bones were also found in the burial pit. Skeletal analysis determined that the remains represent 11 adult males, one adult female, three adults of indeterminate sex, six subadults, one fetus, and one individual of indeterminate age and sex. Similar to Mound 4, five of the subadults were buried with at least one adult. No known individuals were identified. The 48 associated funerary objects are 14 stone blades, one chert core, four ceramic vessels, one clay plug, two copper tubes, one sheet of copper, ten groups of stone flakes, one chert biface fragment, nine groups of ceramic sherds, one group of charcoal, one group of wood fragments, one group of animal bone, and two groups of stone fragments.

In 2003, human remains representing, at minimum, one individual were removed from the Mosquito Island Sandbar Discovery (47-BF-0233) in Buffalo County, WI. The human remains from this site consist of a single femur found by a family playing on a sandbar near Mosquito Island in the Mississippi River. The family took the femur to Dr. William McNeil of the Winona, Minnesota Community Memorial Hospital, who identified the femur as human. Dr. McNeil then contacted Dr. Thomas Retzinger of the Winona County Coroner's Office who contacted the Minnesota State Archeologist, Mark Dudzik. Dudzik determined that the site of recovery was within Wisconsin and sent the human remains for deposition and analysis to the Wisconsin Historical Society Burial Sites Preservation Office (BSPO). Skeletal analysis by BSPO staff determined the femur exhibited morphological features consistent with Native American ancestry. Due to the nature of the discovery, the time period to which the human remains date and whether their place of recovery was their primary burial location is not known. Additionally, there are no known burial sites along the Mississippi River in Buffalo County. No known individuals were identified. No associated funerary objects are present.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of 57 individuals of Native American ancestry.

• Pursuant to 25 U.S.C. 3001(3)(A), the 48 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe (previously listed as the Oglala Sioux Tribe of the Pine Ridge Reservation, South Dakota); Prairie Island Indian Community in the State of Minnesota; Rosebud Sioux Tribe of the Rosebud Indian Reservation, South Dakota; Santee Sioux Nation, Nebraska; Shakopee Mdewakanton Sioux Community of Minnesota; Sisseton-Wahpeton Oyate of the Lake Traverse Reservation, South Dakota; Spirit Lake Tribe, North Dakota; Standing Rock Sioux Tribe of North & South Dakota; Upper Sioux Community, Minnesota; and the Yankton Sioux Tribe of South Dakota (hereafter referred to as “The Aboriginal Land Tribes”).

• Pursuant to 43 CFR 10.11(c)(1), the disposition of the human remains and associated funerary objects may be to The Aboriginal Land Tribes.

Additional Requestors and Disposition

Representatives of any Indian Tribe or Native Hawaiian organization not identified in this notice that wish to request transfer of control of these human remains and associated funerary objects should submit a written request with information in support of the request to Jennifer Kolb, Wisconsin Historical Society, 816 State Street, Madison, WI 53706, telephone (608) 264-6434, email Jennifer.Kolb@wisconsinhistory.org by May 21, 2018. After that date, if no additional requestors have come forward, transfer of control of the human remains and associated funerary objects to The Aboriginal Land Tribes may proceed.

The Wisconsin Historical Society is responsible for notifying The Aboriginal Land Tribes; Forest County Potawatomi Community, Wisconsin; Ho-Chunk Nation of Wisconsin; Lac du Flambeau Band of Lake Superior Chippewa Indians of the Lac du Flambeau Reservation of Wisconsin; and Menominee Indian Tribe of Wisconsin that this notice has been published.

Dated: March 22, 2018.
Melanie O'Brien,
Manager, National NAGPRA Program.

[FR Doc. 2018-08175 Filed 4-18-18; 8:45 am]

BILLING CODE 4312-52-P